DEPARTMENT OF THE TREASURY

Submission for OMB Review; Comment Request

March 16, 2001.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before April 23, 2001 to be assured of consideration.

Financial Management Service (FMS)

OMB Number: 1510-0012.

Form Number: FMS Form 6314.

Type of Review: Extension.

Title: Annual Financial Statements of Surety Companies—Schedule F

Description: The information is obtained from Surety and Insurance Companies. It is used to compute the amount of unauthorized reinsurance in determining Treasury Certified Companies' underwriting limitations which are published in Treasury Circular 570 for use by Federal bond approving officers.

Respondents: Business or other for-profit.

Estimated Number of Respondents: 368.

Estimated Burden Hours Per Respondent: 48 hours, 45 minutes.

Frequency of Response: Annually.

Estimated Total Reporting Burden: 15,635 hours.

Clearance Officer: Juanita Holder, Financial Management Service 3700 East West Highway, Room 144, PGP II, Hyattsville, MD 20782,

OMB Reviewer: Alexander T. Hunt, (202) 395-7860, Office of Management and Budget, Room 10202, New Executive Office Building, Washington, DC 20503.

Lois K. Holland,
Departmental Reports, Management Officer.

[FR Doc. 01-7175 Filed 3-22-01; 8:45 am]

BILLING CODE 4810-35-P